ENVIRONMENTAL PROTECTION AGENCY

40 CFR Part 52

[EPA-R10-OAR-2018-0769, FRL-9989-50-Region 10]

Air Plan Approval; ID, Kraft Pulp Mill Rule Revisions

AGENCY: Environmental Protection Agency.

ACTION: Proposed rule.

SUMMARY: The Environmental Protection Agency (EPA) proposes to approve state implementation plan (SIP) revisions submitted by the Idaho Department of Environmental Quality (IDEQ) on November 2, 2018. The submitted revisions update Idaho's rules by removing obsolete and duplicative requirements as well as requirements less stringent than applicable Federal regulations.

DATES: Comments must be received on or before March 15, 2019.

ADDRESSES: Submit your comments, identified by Docket ID No. EPA-R10-OAR-2018-0769, at http://www.regulations.gov. Follow the online instructions for submitting comments. Once submitted, comments cannot be edited or removed from Regulations.gov. EPA may publish any comment received to its public docket. Do not electronically submit any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Randall Ruddick at (206) 553-1999, or ruddick.randall@epa.gov.

SUPPLEMENTARY INFORMATION: Throughout this document, wherever “we,” “us,” or “our” is used, it is intended to refer to EPA.

Table of Contents

I. Background

II. EPA Evaluation of Idaho's SIP Revisions

III. Proposed Action

IV. Incorporation by Reference

V. Statutory and Executive Orders Review

I. Background

Section 110 of the Clean Air Act (CAA) specifies the general requirements for states to submit State Implementation Plans (SIPs) and the EPA's actions regarding approval of those SIPs. SIPs are states' plans to implement, maintain, and enforce National Ambient Air Quality Standards (NAAQS) set by EPA. Idaho regularly submits parts of IDAPA 58.01.01 to the EPA for approval into the Federally approved Idaho SIP (generally those provisions that relate to the criteria pollutants regulated under section 110 of the CAA for which the EPA has promulgated NAAQS or other specific requirements of section 110).

Idaho's SIP includes Idaho's Rules for Control of Kraft Pulping Mills air emissions, IDAPA 58.01.01.815 through 817 and 58.01.01.821 through 826, effective as a matter of state law in 1994. Since 1994, there have been numerous revisions to Federal regulations related to air emissions from kraft pulping mills, specifically, EPA's promulgation of NSPS (40 CFR 60, subparts BB and BBa) and NESHAP (40 CFR 63, subparts S and MM) specific to kraft pulping mill air emissions. Idaho underwent state rulemaking to streamline their state kraft pulping mill rules by removing requirements that were obsolete, less stringent than, or otherwise covered by existing Federal rules, and by clarifying reporting requirements. Those changes became effective as a matter of state law in 2012. On November 2, 2018, Idaho submitted a SIP revision to EPA requesting the Federally approved SIP be changed to reflect Idaho's current (2012) kraft pulping mill rules.

II. EPA Evaluation of Idaho's SIP Revisions

Idaho's November 2, 2018, SIP submittal requests that EPA remove Idaho's 1994 version of IDAPA 58.01.01.815 through 816 and 819 through 826 from the SIP and approve the State's current (2012) version of IDAPA 58.01.01.815 and 818 into the SIP.

Idaho's 1994 regulations included emission limits at kraft pulping mills for total reduced sulfur (TRS) and particulate matter. The current SIP does not include kraft pulping mill requirements for TRS because TRS is not a criteria pollutant or precursor. Although Idaho's November 2, 2018 SIP submittal included IDAPA 58.01.01.816 and .817, which contain revised requirements for TRS, Idaho specifically requested that EPA not approve the TRS requirements into the SIP.¹ The TRS requirements were submitted for informational purposes only, to provide a complete record of the rulemaking.

¹ The table in the cover letter to Idaho's submittal identifies the citations of the rules currently approved in the SIP, which they are requesting be updated to reflect the 2012 revisions, not the citations of the 2012 revisions.

With respect to particulate matter standards for kraft pulping mills, Idaho's 2012 regulations repealed these standards and the related monitoring, recordkeeping, and reporting requirements. Idaho explained in its November 2018 submittal that the particulate matter requirements in the SIP are now duplicative of and less stringent than Federal NSPS and NESHAP standards applicable to kraft pulping mills. Idaho's SIP submittal includes a comparison, in the same units of measurement, of the particulate matter standards approved in the current SIP with the Federal standards that apply to kraft pulping mills. In each case, the more recent Federal standards are more stringent than the particulate matter standards currently in the Idaho SIP and that Idaho requests be removed from the SIP. We note that Idaho has incorporated by reference the Federal NSPS and NESHAP applicable to kraft pulping mills into its regulations as of July 1, 2017 and has received delegation to implement and enforce these Federal standards.

Idaho's current SIP also required special studies to be completed of kraft pulping mills by December 1972. This requirement is obsolete, and its removal will therefore have no effect on NAAQS compliance.

The only two remaining requirements in Idaho's rules for kraft pulping mills that do not relate solely to TRS are revised IDAPA 58.01.01.815 and 818. IDAPA 58.01.01.815 which contain the revised “Statement of Purpose” for Idaho's rules for kraft pulping mills and reflects the changes made in IDAPA 58.01.01.816 through 826 and the much narrower scope of Idaho's current regulations for kraft pulping mills. IDAPA 58.01.01.818 is a new requirement for notification and reporting of emissions from gas venting regulated under 40 CFR part 63, subpart S. IDAPA 58.01.01.818 implements a reporting requirement in the SIP and does not in any way affect implementation of the NESHAP. Both IDAPA 58.01.01.815 and .818 are consistent with requirements for SIPs under CAA Section 110 and we therefore propose approval.

III. Proposed Action

EPA is proposing to approve, and incorporate by reference, in Idaho's SIP IDAPA 58.01.01.815 and .818 (state effective March 29, 2012) as requested by Idaho on November 2, 2018, and as described in Section II above.

EPA is also proposing, as requested by Idaho on November 2, 2018, to remove IDAPA 58.01.01.816, .817, and .821 through .826 from the Idaho SIP because they are outdated and, in many cases, less stringent than existing Federal CAA emissions limits, performance testing, monitoring, and reporting requirements, and Idaho has repealed them as a matter of state law (state effective March 29, 2012). See Section II above.

IV. Incorporation by Reference

In this rule, EPA is proposing to include in a final rule, regulatory text that includes incorporation by reference. In accordance with requirements of 1 CFR 51.5, EPA is proposing to incorporate by reference the provisions described above in Section III. EPA has made, and will continue to make, these documents generally available electronically through www.regulations.gov and in hard copy at the appropriate EPA office (see the ADDRESSES section of this preamble for more information).

V. Statutory and Executive Orders Review

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this proposed action merely approves state law as meeting Federal requirements and does not impose additional requirements beyond those imposed by state law. For that reason, this proposed action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because it does not involve technical standards; and

• does not provide the EPA with the discretionary authority to address, as appropriate, disproportionate human health or environmental effects, using practicable and legally permissible methods, under Executive Order 12898 (59 FR 7629, February 16, 1994).

The proposed SIP would not be approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Particulate matter, Reporting and recordkeeping requirements, Sulfur oxides.

Authority: 42 U.S.C. 7401 et seq.

Dated: January 30, 2019.
Michelle L. Pirzadeh,
Acting Regional Administrator, Region 10.

[FR Doc. 2019-02217 Filed 2-12-19; 8:45 am]

BILLING CODE 6560-50-P